DEPARTMENT OF HEALTH AND HUMAN SERVICES

Office of the Secretary

Adjustments for Disaster-Recovery States to the Fiscal Year 2024 and Fiscal Year 2025 Federal Medical Assistance Percentage (FMAP) Rates for Federal Matching Shares for Medicaid and Title IV-E Foster Care, Adoption Assistance, and Guardianship Assistance Programs

AGENCY: Office of the Secretary, HHS.

ACTION: Notice.

SUMMARY: This notice announces the adjusted Federal Medical Assistance Percentage (FMAP) rates for the Fiscal Year 2024 and Fiscal Year 2025 for disaster-recovery FMAP adjustment States made available under the Social Security Act (the “Act”), as enacted in section 2006 of the Patient Protection and Affordable Care Act of 2010 (“Affordable Care Act”). The Social Security Act adjusts the regular FMAP rate for qualifying states that have experienced a major, statewide disaster. The percentages listed are for Fiscal Year 2024, retroactively effective from October 1, 2023 through September 30, 2024, and for Fiscal Year 2025, effective October 1, 2024 through September 30, 2025. Table 1 gives the Fiscal Year 2024 Disaster-Recovery Adjusted FMAP Rates and Table 2 gives the Fiscal Year 2025 Disaster-Recovery Adjusted FMAP Rates.

DATES: The percentages listed in Table 1 will be effective for each of the four quarter-year periods beginning October 1, 2023, and ending September 30, 2024; The percentages listed in Table 2 will be effective for each of the four quarter-year periods beginning October 1, 2024, and ending September 30, 2025.

FOR FURTHER INFORMATION CONTACT: Amelia Whitman, Office of Health Policy, Office of the Assistant Secretary for Planning and Evaluation, Room 447D—Hubert H. Humphrey Building, 200 Independence Avenue SW, Washington, DC 20201, (202) 578-1478.

SUPPLEMENTARY INFORMATION: Programs under titles IV, XIX and XXI of the Act exist in each jurisdiction. Programs under titles I, X, and XIV operate only in Guam and the Virgin Islands, and a program under title XVI (Aid to the Aged, Blind, or Disabled) operates only in Puerto Rico. The percentages in this notice apply to state expenditures for most medical assistance and child health assistance, and assistance payments for certain social services. The Act provides separately for Federal matching of administrative costs.

Sections 1905(b) and 1101(a)(8)(B) of the Act require the Secretary of HHS to publish the FMAP rates each year. The Secretary calculates the percentages, using formulas in sections 1905(b) and 1101(a)(8) of the Act, and calculations by the Department of Commerce of average income per person in each state and for the United States (meaning, for this purpose, the fifty states). The percentages must fall within the upper and lower limits specified in section 1905(b) of the Act. The percentages for the District of Columbia, Puerto Rico, the Virgin Islands, Guam, American Samoa, and the Northern Mariana Islands are specified in statute, and thus are not based on the statutory formula that determines the percentages for the 50 states.

Federal Medical Assistance Percentage (FMAP)

Section 1905(b) of the Act specifies the formula for calculating FMAPs as follows:

“ `Federal medical assistance percentage' ” for any state shall be 100 per centum less the state percentage; and the state percentage shall be that percentage which bears the same ratio to 45 per centum as the square of the per capita income of such state bears to the square of the per capita income of the continental United States (including Alaska) and Hawaii; except that (1) the Federal medical assistance percentage shall in no case be less than 50 per centum or more than 83 per centum.”

Section 1905(b) further specifies that the FMAP for Puerto Rico, the Virgin Islands, Guam, the Northern Mariana Islands, and American Samoa shall be 55 percent. However, section 5101(b) of the Consolidated Appropriations Act, 2023 (CAA, 2023) (Pub. L. 117-328) amended section 1905(ff) of the Act to provide that the FMAP for the Virgin Islands, Guam, the Northern Mariana Islands, and American Samoa shall be 83 percent permanently, and that the FMAP for Puerto Rico shall be 76 percent through September 30, 2027. In addition, we note that the rate that applies for Puerto Rico, the Virgin Islands, and Guam in certain other programs pursuant to section 1118 of the Act is 75 percent. Section 4725(b) of the Balanced Budget Act of 1997 (BBA) (Pub. L. 105-33) amended section 1905(b) of the Act to provide that the FMAP for the District of Columbia, for purposes of titles XIX and XXI, shall be 70 percent.

Section 1905(y) of the Act, as added by section 2001 of the Affordable Care Act, provides for a significant increase in the FMAP for medical assistance expenditures for newly eligible individuals described in section 1902(a)(10)(A)(i)(VIII) of the Act, as added by the Affordable Care Act (i.e., the adult group); “newly eligible” is defined in section 1905(y)(2)(A) of the Act. The FMAP for the adult group is 100 percent for Calendar Years 2014, 2015, and 2016, gradually declining to 90 percent in 2020, where it remains indefinitely. Section 1905 of the Act was further amended by section 9814 of the American Rescue Plan of 2021 (Pub. L. 117-2) to provide an eight-quarter increase of five percentage points in a qualifying state or territory's FMAP for a state or territory that begins to cover the adult group after March 11, 2021.. In addition, section 1905(z) of the Act, as added by section 10201 of the Affordable Care Act, provides that states that offered substantial health coverage to certain low-income parents and nonpregnant, childless adults on the date of enactment of the Affordable Care Act, referred to as “expansion states,” shall receive an enhanced FMAP beginning in 2014 for medical assistance expenditures for nonpregnant childless adults who may be required to enroll in benchmark coverage under section 1937 of the Act. These provisions are discussed in more detail in the Medicaid Program: Eligibility Changes Under the Affordable Care Act of 2010 proposed rule published on August 17, 2011 (76 FR 51148, 51172) and the final rule published on March 23, 2012 (77 FR 17144, 17194). This notice is not intended to set forth the matching rates for the adult group as specified in section 1905(y) of the Act or the matching rates for nonpregnant, childless adults in expansion states as specified in section 1905(z) of the Act.

Disaster-Recovery Adjustments to the FMAP

Section 1905(aa) of the Act, as amended by section 2006 of the Affordable Care Act, specifies that, notwithstanding section 1905(b) of the Act, the FMAP for a “disaster-recovery FMAP adjustment state” is adjusted as described in section 1905(aa)(1) of the Act. The statute defines a “disaster-recovery FMAP adjustment state” as one of the 50 states or District of Columbia for which, at any time during the preceding 7 fiscal years, the President has declared a major disaster under section 401 of the Robert T. Stafford Disaster Relief and Emergency Assistance Act (the “Stafford Act”), under which every county or parish in the state warrant individual and public or public assistance from the Federal Government, and for which the state's regular FMAP (as defined by section 1905(aa)(3) of the Act) as determined for the fiscal year is less than the FMAP for the preceding fiscal year by at least three percentage points, as outlined in sections 1905(aa)(2)(A) and (aa)(2)(B) of the Act. Section 1905(aa)(3) of the Act defines a state's “regular FMAP” to be the FMAP that would otherwise apply to the state for the fiscal year, as determined under 1905(b) and without regard to section 1905(aa), (y), (z), and section 10202 of the Patient Protection and Affordable Care Act.

HHS did not consider the temporary FMAP increase available to qualifying states under section 6008 of the Families First Coronavirus Response Act (FFCRA) (Pub. L. 116-127) (as amended by the Consolidated Appropriations Act, 2023, Pub. L. 117-328) from January 1, 2020 through December 31, 2023 when determining whether a state is a disaster-recovery FMAP adjustment State, or when determining the amount of such a state's disaster-recovery FMAP adjustment (the calculation of that adjustment is discussed below). HHS interprets the FFCRA FMAP increase to apply only to the state-specific FMAP defined in the first sentence of section 1905(b) of the Act. See CMS, COVID-19 FAQs, January 6, 2021, at https://www.medicaid.gov/state-resource-center/downloads/covid-19-faqs.pdf, IV.F.7. The first sentence of section 1905(b) of the Act provides that the state-specific FMAP defined in that section is “subject to” certain other provisions of section 1905 of the Act that contain language indicating that the FMAP described in the provision replaces the FMAP in the first sentence of section 1905(b) entirely, in which case the FFCRA FMAP increase does not apply. That is the case for section 1905(aa) of the Act. Specifically, the word notwithstanding in section 1905(aa)(1) of the Act and the word otherwise in section 1905(aa)(3) of the Act indicate that the FFCRA FMAP increase is neither applied to the adjusted FMAP for a disaster-recovery FMAP adjustment state, nor taken into account when determining the regular FMAP which is used to determine the amount of the adjustment and whether a state qualifies for it. Additionally, section 1905(aa)(2)(A) of the Act specifies that the preceding year's FMAP against which the state's regular FMAP is compared for purposes of determining whether a state might qualify for an initial-year disaster-recovery FMAP adjustment should be the FMAP determined for the state after the application of only section 5001(a) of Public Law 111-5—there is no reference to the FFCRA FMAP increase. Because the FFCRA FMAP increase does not affect eligibility for or calculation of the disaster-recovery FMAP adjustment for the first fiscal year a state receives it, the FFCRA FMAP increase also does not affect the determinations for the second and subsequent fiscal years a state receives an adjustment under section 1905(aa) of the Act.

The increased FMAP (with disaster-recovery adjustment) is available for state medical assistance (Medicaid) and for title IV-E Foster Care, Adoption Assistance and Guardianship Assistance programs. Expenditures for which the increased FMAP is not available under title XIX include expenditures for disproportionate share hospital (DSH) payments and expenditures that are paid at an enhanced FMAP rate, as well as any payments made under Title XXI (the Children's Health Insurance Program).

Calculation of the Increased FMAP Rates for Disaster-Recovery FMAP Adjustment States

Generally, per section 1905(aa)(1) of the Act, the FMAP for disaster-recovery FMAP adjustment States is calculated by increasing the state's regular FMAP by a percentage of the amount by which it had decreased across the relevant years. For the first year in which a state qualifies for the disaster-recovery FMAP adjustment, the FMAP shall be equal to the regular FMAP as determined for the fiscal year, plus 50 percent of the number of percentage points by which the regular FMAP is less than the FMAP determined for the state for the preceding fiscal year after the application of only subsection (a) of section 5001 of Public Law 111-5 (if applicable to the preceding fiscal year) and without regard to subsections 1905(aa), (y), (z), and subsections (b) and (c) of section 5001 of Public Law 111-5. In year two or any succeeding fiscal year in the qualifying 7 year period, the state's regular FMAP for such fiscal year shall be increased by 25 percent of the number of percentage points by which the state's regular FMAP for such fiscal year is less than the FMAP received by the state during the preceding fiscal year.

Disaster-recovery FMAP adjustments are included in the annual publication of the FMAP rates for the succeeding fiscal year. An additional notice for the changes discussed above is necessary because for Fiscal Year 2024 and Fiscal Year 2025 disaster-recovery adjustments to the FMAP rates were identified after publication of the FMAP rates for those years.

Disaster-Recovery FMAP Adjustments for Fiscal Year 2024 and Fiscal Year 2025

All states and the District of Columbia had a presidential major disaster declaration in Fiscal Year 2020 for COVID-19 under section 401 of the Stafford Act, under which every county or parish in the state was eligible for individual and public or public assistance from the federal government, and will meet the requirement related to the declaration of a major disaster through Fiscal Year 2027. For Fiscal Year 2024, one state, Arizona, meets the requirement that its regular FMAP for such year is less than the previous year FMAP (i.e., Fiscal Year 2023) by at least three percentage points. Therefore, this notice provides a disaster-recovery FMAP adjustment for the state of Arizona for Fiscal Year 2024, as shown in Table 1. With the Fiscal Year 2024 disaster-recovery adjustment, Arizona meets the requirement that the regular FMAP as determined for Fiscal Year 2025 is less than the previous year FMAP, including any applicable disaster-recovery adjustment (i.e., the amount required under section 1905(aa)(2)(A) for a state's first fiscal year that section 1905(aa) applies to the state), by at least three percentage points. Therefore, this notice provides a disaster-recovery FMAP adjustment for the state of Arizona for Fiscal Year 2025, as shown in Table 2. See more information described in the December 22, 2010 Federal Register notice (75 FR 80501).

(Catalog of Federal Domestic Assistance Program Nos. 93.658: Foster Care Title IV-E; 93.659: Adoption Assistance; 93.090: Guardianship Assistance; 93.778: Medical Assistance Program)

Dated: November 22, 2024.
Xavier Becerra,
Secretary, Department of Health and Human Services.

Table 1—Fiscal Year 2024 Disaster-Recovery Adjusted FMAP Rates
State | Fiscal year 2023 FMAP | Fiscal year 2024 regular FMAP (unadjusted) | Decrease in FMAP | Disaster-recovery adjustment * | Disaster-recovery adjusted FMAP fiscal year 2024
Arizona | 69.56 | 66.29 | 3.27 | 1.64 | 67.93
* In the first year, the Disaster-Recovery Adjustment is 50 percent of the percentage point decrease between the regular FMAP for such fiscal year and the FMAP from the preceding fiscal year.

Table 2—Fiscal Year 2025 Disaster-Recovery Adjusted FMAP Rates
State | Fiscal year 2024 FMAP * | Fiscal year 2025 regular FMAP (unadjusted) | Decrease in FMAP | Disaster-recovery adjustment ** | Disaster-recovery adjusted FMAP fiscal year 2025
Arizona | 67.93 | 64.89 | 3.04 | 0.76 | 65.65
* Includes applicable Disaster-Recovery Adjustment made for Fiscal Year 2024 (See Table 1).
** In year two or any succeeding fiscal year in the qualifying seven-year period, the Disaster-Recovery Adjustment is 25 percent of the percentage point decrease between the regular FMAP for such fiscal year and the FMAP from the preceding fiscal year, including any disaster-recovery adjustments.

[FR Doc. 2024-27938 Filed 11-27-24; 8:45 am]

BILLING CODE 4150-15-P